DEPARTMENT OF AGRICULTURE

Natural Resources Conservation Service

Notice of a Meeting of the Agricultural Air Quality Task Force

AGENCY: Natural Resources Conservation Service, Department of Agriculture.

ACTION: Notice of a meeting.

SUMMARY: The Agricultural Air Quality Task Force (AAQTF) will meet to continue discussions on air quality issues relating to agriculture.

DATES: The meeting will convene at 8 a.m. beginning Tuesday through Thursday (March 9-11, 2010), and conclude at 5 p.m. each day except Thursday, when the meeting will conclude at noon. A public comment period will be held on March 11, 2010. Individuals making oral presentations should register in person at the meeting site and must bring with them 50 copies of any materials they would like distributed.

ADDRESSES: The meeting will be held at the Hotel Duval located at 415 North Monroe Street, Tallahassee, Florida 32301; telephone: (850) 391-3783 or (866) 966-1389.

FOR FURTHER INFORMATION CONTACT: Elvis Graves, Acting Designated Federal Official, Department of Agriculture, Natural Resources Conservation Service, 1400 Independence Avenue, SW., Room 6165 South Building, Washington, DC 20013; telephone: (336) 370-3347; or e-mail: elvis.graves@gnb.usda.gov.

SUPPLEMENTARY INFORMATION: Notice of this meeting is given under the Federal Advisory Committee Act, 5 U.S.C. App. 2. Additional information concerning the AAQTF may be found at the following Web site: http://www.airquality.nrcs.usda.gov/AAQTF/.

AAQTF Meeting

Draft Agenda

Tuesday, March 9, 2010

• Welcome to Florida.

• Discussion of Florida Air Quality Issues.

• Discussion of Greenhouse Gas.

• Reactive Nitrogen.

• Public Comments.

(Time will be reserved on March 11, 2010, to receive public comment. Individual presentations will be limited to 5 minutes).

Wednesday, March 10, 2010

• Discussion of Conservation Innovation Grant Animal Feeding Operation Index Tool.

• Fire As An Ecosystem Management Tool.

Thursday, March 11, 2010

• Discussion of Subcommittee Recommendations.

• Public Comment.

• Next Meeting, Time, and Place; Adjournment.

*Please note that the timing of events in the agenda is subject to change to accommodate changing schedules of expected speakers.

Procedural

This meeting is open to the public. At the discretion of the Chair, members of the public may give oral presentations during the meeting. Those persons wishing to make oral presentations should register in person at the meeting site. Those wishing to distribute written materials at the meeting (in conjunction with spoken comments) must bring 50 copies of the materials with them.

Information on Services for Individuals With Disabilities

For information on facilities or services for individuals with disabilities, or to request special assistance at the meeting, please contact Mr. Graves. The Department of Agriculture (USDA) prohibits discrimination in its programs and activities on the basis of race, color, national origin, gender, religion, age, sexual orientation, or disability. Additionally, discrimination on the basis of political beliefs and marital or family status is also prohibited by statutes enforced by USDA (not all prohibited bases apply to all programs). Persons with disabilities who require alternate means for communication of program information (Braille, large print, audio tape, etc.) should contact the USDA's Target Center at (202) 720-2000 (voice and TDD). USDA is an equal opportunity provider and employer.

Signed this February 22, 2010, in Washington, DC.
Dave White,
Chief.

[FR Doc. 2010-3996 Filed 2-25-10; 8:45 am]

BILLING CODE 3410-16-P